ENVIRONMENTAL PROTECTION AGENCY

[FRL-8332-7]

Science Advisory Board Staff Office; Request for Nominations for Science Advisory Board Panels on Uncertainty Analysis and Expert Elicitation

AGENCY: Environmental Protection Agency (EPA).

ACTION: Notice.

SUMMARY: The EPA Science Advisory Board (SAB) Staff Office announces the formation of SAB Panels to address issues related to uncertainty analysis and expert elicitation and is soliciting nominations for members of the Panels.

DATES: Nominations should be submitted by July 19, 2007 per the instructions below.

FOR FURTHER INFORMATION CONTACT: Members of the public who wish to obtain further information regarding this announcement may contact Dr. Angela Nugent, Designated Federal Officer, via telephone at: (202) 343-9981 or e-mail at: nugent.angela@epa.gov. The SAB mailing address is: U.S. EPA Science Advisory Board (1400F), U.S. Environmental Protection Agency, 1200 Pennsylvania Ave., NW., Washington, DC 20460. General information about the SAB as well as any updates concerning this request for nominations may be found on the SAB Web site at: http://www.epa.gov/sab.

SUPPLEMENTARY INFORMATION: There has been a recent increase in interest in the use of uncertainty analysis and expert elicitation as tools to be used in regulatory analyses and in support of EPA decision-making. At the request of EPA's Office of Air and Radiation and Office of the Science Advisor, the SAB plans to form several expert panels, as needed, to provide technical advice to EPA through the chartered SAB regarding the Agency's ongoing work in uncertainty analyses and expert elicitation. The SAB is a chartered Federal Advisory Committee, established by 42 U.S.C. 4365, to provide independent scientific and technical advice, consultation, and recommendations to the EPA Administrator on the technical bases for EPA policies and actions. The SAB expert panels to be formed to address scientific issues related to uncertainty analysis and expert elicitation will comply with the provisions of the Federal Advisory Committee Act (FACA) and all appropriate SAB procedural policies.

Several specific reports have called for increased attention to quantitative uncertainty analysis and expert elicitation. In 2002, the National Research Council (NRC) published a Report to Congress, titled “Estimating the Health-Risk-Reduction Benefits of Proposed Air Pollution Regulations.” One of the recommendations of the NRC was that “EPA should begin to move the assessment of uncertainties from its ancillary analyses into the primary analysis by conducting probabilistic, multiple-source uncertainty analyses. This shift will require specification of probability distributions for major sources of uncertainty. These distributions should be based on available data and expert judgment.” More recently, the Office of Management and Budget (OMB) suggested using expert elicitation as a tool in addressing Circular A-4 requirements (OMB, 2004) for probabilistic uncertainty analysis and also discussed its use in a Proposed Risk Assessment Bulletin (OMB, 2006). Provisions for expert elicitation were also included in EPA's recently revised cancer guidelines (2005). EPA's experience conducting expert elicitations has been limited, with the majority of experience in the Office of Air and Radiation.

The SAB Staff Office has received requests for advice from the SAB on four new advisory activities related to implementation of methods related to uncertainty analysis and expert elicitation. These four activities are summarized below.

EPA's Office of Air and Radiation has requested SAB review of a draft document, “Hierarchy of Methods Report,” that catalogues quantitative and qualitative methods available for characterizing uncertainty in risk assessments and regulatory impact analyses. The document provides guidance for selecting methods, given the type of uncertainty being addressed, the quantity and type of available evidence or data, and the ability to gather additional data. The document summarizes data requirements associated with different methods, resource needs, experience and acceptability, and other considerations on their use to support regulatory decisions. The Office of Air and Radiation requests SAB review of the characterization of methods described in the report, including the applicability, limitations and resource needs and the soundness of the approaches outlined on how to select specific approaches to characterizing uncertainty for risk assessments and regulatory impact analyses.

The Office of Air and Radiation has requested SAB advice on a draft “Influence Analysis Report,” designed to help improve EPA analyses by identifying the sources of greatest impact on overall uncertainty. The Office of Air and Radiation requests advice on the methodological approach for developing the “Influence Analysis Report” to ensure that the office follows best practices for conducting influence analyses and adequately covers the issues contributing to uncertainty in analyses related to the benefits of air pollution-related environmental protection.

EPA's Office of the Science Advisor has requested SAB review of an “Expert Elicitation (EE) Task Force White Paper.” The White Paper discusses the potential utility of using expert elicitation to support EPA regulatory and non-regulatory analyses and decision-making, provides recommendations for expert elicitation “good practices,” and describes steps for a broader application across EPA. The Office of the Science Advisor has asked the SAB to provide advice regarding the potential usefulness of expert elicitation, how to strengthen the scientific basis for its use, and the implications for possible implementation at EPA.

EPA's Office of Air and Radiation has requested SAB review of an expert elicitation conducted to estimate the benefits of reduced premature mortalities associated with exposures to fine particles in the air. This expert elicitation was conducted in support of regulatory analyses for an upcoming proposed rulemaking (the Regulatory Impact Analysis of the Particulate Matter National Ambient Air Quality Standards). The Office of Air and Radiation has asked the SAB to review the design, implementation, and results of the expert elicitation and EPA's interpretation of those results within the particulate matter Regulatory Impact Analysis. The Agency seeks SAB advice on whether the interpretation and application of the results of the elicitation in the Regulatory Impact Analysis are consistent with the recommendations from the NRC and whether the results are presented in a valid, clear, and concise manner for use by a wide variety of audiences, including scientists, policy analysts, decision-makers, and the public.

Availability of the Review Materials: The EPA draft documents to be reviewed by the SAB Panel will be made available by the Office of Air and Radiation and Office of the Science Advisor. For questions and information concerning the review materials of the documents being developed by the Office of Air and Radiation, please contact Dr. Lisa Connor, at (919) 541-5060, or connor.lisa@epa.gov. For questions and information concerning the review materials of the documents being developed by the Office of the Science Advisor, please contact Dr. Robert Hetes, at (919) 541-1589, or hetes.robert@epa.gov.

Request for Nominations: The SAB Staff Office is requesting nominations for nationally and internationally recognized non-EPA scientists with expertise and experience related to uncertainty analysis or expert elicitation in the following fields: Statistics, mathematics, biostatistics, cognitive psychology, decision analysis, environmental economics, human health sciences, ecological science, epidemiology, policy analysis, risk assessment, and risk communication.

Process and Deadline for Submitting Nominations: Any interested person or organization may nominate qualified individuals to add expertise to the SAB Uncertainty and Expert Elicitation Expert Panels in the areas of expertise described above. Nominations should be submitted in electronic format through the SAB Web site at the following URL: http://www.epa.gov/sab; or directly via the Form for Nominating Individuals to Panels of the EPA Science Advisory Board link found at URL: http://www.epa.gov/sab/panels/paneltopics.html. Please follow the instructions for submitting nominations carefully. To be considered, nominations should include all of the information required on the associated forms. Anyone unable to submit nominations using the electronic form and who has any questions concerning the nomination process may contact Dr. Angela Nugent, DFO, as indicated above in this notice. Nominations should be submitted in time to arrive no later than July 19, 2007.

For nominees to be considered, please include: Contact information; a curriculum vitae; a biosketch of no more than two paragraphs (containing information on the nominee's current position, educational background, areas of expertise and research activities, service on other advisory committees and professional societies; the candidate's special expertise related to the panel being formed; and sources of recent grant and/or contract support).

The EPA SAB Staff Office will acknowledge receipt of nominations. The names and biosketches of qualified nominees identified by respondents to the Federal Register notice and additional experts identified by the SAB Staff will be posted on the SAB Web site at: http://www.epa.gov/sab. Public comments on this “Short List” of candidates will be accepted for 21 calendar days. The public will be requested to provide relevant information or other documentation on nominees that the SAB Staff Office should consider in evaluating candidates.

For the EPA SAB Staff Office, a balanced subcommittee or review panel includes candidates who possess the necessary domains of knowledge, the relevant scientific perspectives (which, among other factors, can be influenced by work history and affiliation), and the collective breadth of experience to adequately address the charge. To establish individual expert panels for the advisory activities described above, the SAB Staff Office will consider public comments on the “Short List” of candidates, information provided by the candidates themselves, and background information independently gathered by the SAB Staff Office. Specific criteria to be used for Panel membership include: (a) Scientific and/or technical expertise, knowledge, and experience (primary factors); (b) availability and willingness to serve; (c) absence of financial conflicts of interest; (d) absence of an appearance of a lack of impartiality; and (e) skills working in committees, subcommittees and advisory panels; and, for the Panel as a whole, (f) diversity of, and balance among, scientific expertise, viewpoints, etc.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at: http://www.epa.gov/sab/pdf/ec02010.pdf.

Dated: June 22, 2007.
Anthony F. Maciorowski,
Deputy Director, EPA Science Advisory Board Staff Office.

[FR Doc. E7-12538 Filed 6-27-07; 8:45 am]

BILLING CODE 6560-50-P